DEPARTMENT OF COMMERCE

Foreign-Trade Zones Board

[Docket 50-2006]

Foreign-Trade Zone 51—Duluth, MN Application For Foreign-Trade Subzone Status MAPE USA, Inc. (Crankshafts) Cambridge, MN

An application has been submitted to the Foreign-Trade Zones Board (the Board) by the Duluth Seaway Port Authority, grantee of FTZ 51, requesting special-purpose subzone status for the quality-control, warehousing and distribution facility (crankshafts) of MAPE USA, Inc. (MAPE), located in Cambridge, Minnesota. The application was submitted pursuant to the Foreign-Trade Zones Act, as amended (19 U.S.C. 81a-81u), and the regulations of the Board (15 CFR part 400). It was formally filed on December 29, 2006.

The facility for which subzone status is proposed is located at 315 South Garfield Street in Cambridge, Minnesota (1.7 acres; 24,590 sq. ft. of enclosed space). The facility (15 employees) may be used under FTZ procedures for quality control, warehousing and distribution of crankshafts.

Zone procedures would allow MAPE to defer Customs duty payments until merchandise is shipped from its facilities to its customers (including as zone-to-zone transfers). The application indicates that the company also anticipates realizing significant logistical/procedural benefits and that savings from FTZ procedures could help improve the facility's international competitiveness.

In accordance with the Board's regulations, a member of the FTZ Staff has been designated examiner to investigate the application and report to the Board.

Public comment is invited from interested parties. Submissions (original and 3 copies) shall be addressed to the Board's Executive Secretary at the address below. The closing period for their receipt is March 12, 2007. Rebuttal comments in response to material submitted during the foregoing period may be submitted during the subsequent 15-day period to March 27, 2007.

A copy of the application and accompanying exhibits will be available for public inspection at each of the following locations: Minneapolis Export Assistance Center, 100 North 6th Street, Suite 210-C, Minneapolis, MN 55403; and Office of the Executive Secretary, Foreign-Trade Zones Board, U.S. Department of Commerce, Room 2814B, 1401 Constitution Ave. NW., Washington, DC 20230.

Dated: December 29, 2006.
Andrew McGilvray,
Executive Secretary.

[FR Doc. E7-268 Filed 1-10-07; 8:45 am]

BILLING CODE 3510-DS-P